DEPARTMENT OF COMMERCE

Census Bureau

Agency Information Collection Activities; Submission to the Office of Management and Budget (OMB) for Review and Approval; Comment Request; Construction Progress Reporting Surveys

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 16, 2024 during a 60-day comment period. This notice allows for an additional 30 days for public comments.

Agency: U.S. Census Bureau, Department of Commerce.

Title: Construction Progress Reporting Surveys.

OMB Control Number: 0607-0153.

Form Number(s): C-700, C-700R, C-700SL, C-700F.

Type of Request: Regular submission, Request for an Extension, without Change, of a Currently Approved Collection.

Number of Respondents: 22,000 respondents report monthly over the duration of the construction project (an average of 12 months).

Average Hours per Response: 30 minutes for month 1; 10 minutes for months 2 through 12.

Burden Hours: 51,333.

Needs and Uses: The U.S. Census Bureau is requesting an extension of a currently approved collection for forms: C-700, for Private Construction Projects; C-700(R), for Multifamily Residential Projects; C-700(SL), for State and Local Governments Projects; and C-700(F), for Federal Government Projects.

These forms are used to conduct the Construction Progress Reporting Surveys (CPRS) which collect information on the dollar value of construction put in place on non-residential building projects under construction by private companies or individuals, private multifamily residential buildings, and building projects under construction by federal and state and local governments.

The Census Bureau uses the information collected on these forms to publish estimates of the monthly dollar value of construction put in place. Statistics from the CPRS become part of the monthly “Value of Construction Put in Place” or “Construction Spending” series, a Principal Economic Indicator that is used extensively by the federal government in making policy decisions and is used by the Bureau of Economic Analysis (BEA) to estimate the gross domestic product (GDP). The private sector uses the statistics for market analysis and other research. Construction now accounts for 7.4 percent of GDP.

Published estimates are used by a variety of private business and trade associations to estimate the demand for building materials and to schedule production, distribution, and sales efforts. They also provide various government agencies with a tool to evaluate economic policy. For example, Bureau of Economic Analysis staff use data to develop the construction components of gross private domestic investment in the gross domestic product. The Federal Reserve Board and the Department of the Treasury use the value put in place data to predict the gross domestic product, which is presented to the Board of Governors and has an impact on monetary policy.

Frequency: Monthly.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0153.

Sheleen Dumas,
Departmental PRA Clearance Officer, Office of the Under Secretary for Economic Affairs, Commerce Department.

[FR Doc. 2024-26802 Filed 11-15-24; 8:45 am]

BILLING CODE 3510-07-P